SOCIAL SECURITY ADMINISTRATION

[Docket No: SSA-2016-0043]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2016-0043].

I. The information collections below are pending at SSA. SSA will submit them to OMB within 60 days from the date of this notice. To be sure we consider your comments, we must receive them no later than November 14, 2016. Individuals can obtain copies of the collection instruments by writing to the above email address.

1. Supplemental Security Income (SSI)—Quality Review Case Analysis—0960-0133. To assess the SSI program and ensure the accuracy of its payments, SSA conducts legally mandated periodic SSI case analysis quality reviews. SSA uses Form SSA-8508 to conduct these reviews, collecting information on operating efficiency; the quality of underlying policies; and the effect of incorrect payments. SSA also uses the data to determine SSI program payment accuracy rate, which is a performance measure for the agency's service delivery goals. Respondents are recipients of SSI payments selected for quality reviews.

Type of Request: Revision of an OMB approved information collection.

Modality of completion | Number of respondents | Frequency of response | Average burden per response (minute) | Estimated annual burden (hours)
SSA-8508-BK (paper interview) | 225 | 1 | 60 | 225
SSA-8508-BK (electronic) | 4,275 | 1 | 60 | 4,275
Totals | 4,500 |  |  | 4,500

2. Social Security Benefits Application—20 CFR 404.310-404.311, 404.315-404.322, 404.330-404.333, 404.601-404.603, and 404.1501-404.1512—0960-0618. Title II of the Social Security Act provides retirement, survivors, and disability benefits to members of the public who meet the required eligibility criteria and file the appropriate application. This collection comprises the various application methods for each type of benefits. SSA uses the information we gather through the multiple information collection tools in this information collection request to determine applicants' eligibility for specific Social Security benefits, as well as the amount of the benefits. Individuals filing for disability benefits can, and in some instances SSA may require them to, file applications under both Title II, Social Security disability benefits, and Title XVI, SSI payments. We refer to disability applications filed under both titles as “concurrent applications.” This collection comprises the various application methods for each type of benefits. These methods include the following modalities: Paper forms (Forms SSA-1, SSA-2, and SSA-16); Modernized Claims System (MCS) screens for in-person interview applications; and Internet-based iClaim and iAppointment applications. SSA uses the information we collect through these modalities to determine: (1) The applicants' eligibility for the above-mentioned Social Security benefits and (2) the amount of the benefits. The respondents are applicants for retirement, survivors, and disability benefits under title II of the Social Security Act.

Type of Request: Revision of an OMB-approved information collection.

Form SSA-1
Modality of completion | Number of respondents | Frequency of response | Average burden per response (minute) | Estimated annual burden (hours)
MCS/Signature Proxy | 2,793,597 | 1 | 10 | 465,600
Paper | 115,678 | 1 | 11 | 21,208
Medicare-only MCS | 880,763 | 1 | 7 | 102,756
Medicare-only Paper | 9,549 | 1 | 7 | 1,114
Totals | 3,779,587 |  |  | 590,678

Form SSA-2
Modality of completion | Number of respondents | Frequency of response | Average burden per response (minutes) | Estimated annual burden (hours)
MCS/Signature Proxy | 518,598 | 1 | 14 | 121,006
Paper | 54,661 | 1 | 15 | 13,665
Totals | 573,259 |  |  | 134,671

Form SSA-16
Modality of completion | Number of respondents | Frequency of response | Average burden per response (minute) | Estimated annual burden (hours)
MCS/Signature Proxy | 2,483,952 | 1 | 19 | 786,585
Paper | 116,294 | 1 | 20 | 38,765
Totals | 2,600,246 |  |  | 825,350

iClaim Screens
Modality of completion | Number of respondents | Frequency of response | Average burden per response (minute) | Estimated annual burden (hours)
iClaim 3rd Party | 345,267 | 1 | 15 | 86,317
iClaim Applicant after 3rd Party Completion | 345,267 | 1 | 5 | 28,772
First Party iClaim—Domestic Applicant | 2,956,208 | 1 | 15 | 739,052
First Party iClaim—Foreign Applicant | 11,650 | 1 | 3 | 583
Medicare-only iClaim | 723,062 | 1 | 10 | 120,510
Totals | 4,381,454 |  |  | 975,234

iAppointment Screens
Modality of completion | Number of respondents | Frequency of response | Average burden per response (minute) | Estimated annual burden (hours)
iAppointment | 20,218 | 1 | 10 | 3,370

Grand Total
Modality of completion | Number of respondents | Frequency of response | Average burden per response (minute) | Estimated annual burden (hours)
Total | 11,374,764 |  |  | 2,529,303

II. SSA submitted the information collection below to OMB for clearance. Your comments regarding the information collection would be most useful if OMB and SSA receive them 30 days from the date of this publication. To be sure we consider your comments, we must receive them no later than October 12, 2016. Individuals can obtain copies of the OMB clearance package by writing to OR.Reports.Clearance@ssa.gov.

Request to Withdraw a Hearing Request; Request to Withdraw an Appeals Council Request for Review; and Administrative Review Process for Adjudicating Initial Disability Claims—20 CFR parts 404, 405, and 416—0960-0710. Claimants have a statutory right under the Act and current regulations to apply for Social Security Disability Insurance (SSDI) benefits or SSI payments. SSA collects information at each step of the administrative process to adjudicate claims fairly and efficiently. SSA collects this information to establish a claimant's right to administrative review and determine the severity of the claimant's alleged impairments. SSA uses the information we collect to determine entitlement or continuing eligibility to SSDI benefits or SSI payments, and to enable appeals of these determinations. In addition, SSA collects information on Forms HA-85 and HA-86 to allow claimants to withdraw a hearing request or an Appeals Council review request. The respondents are applicants for Title II SSDI or Title XVI SSI benefits; their appointed representatives; legal advocates; medical sources; and schools.

Type of Request: Revision of an OMB- approved information collection.

20 CFR Section No. | Number of respondents | Frequency of response | Average burden per response (minutes) | Estimated annual burden (hours)
404.961, 416.1461, 405.330, and 405.366 | 12,220 | 1 | 20 | 4,073
404.950, 416.1450, and 405.332 | 1,040 | 1 | 20 | 347
404.949 and 416.1449 | 2,868 | 1 | 60 | 2,868
405.334 | 20 | 1 | 60 | 20
404.957, 416.1457, and 405.380 | 21,041 | 1 | 10 | 3,507
405.381 | 37 | 1 | 30 | 19
405.401 | 5,310 | 1 | 10 | 885
404.971 and 416.1471 (HA-85; HA-86) | 1,606 | 1 | 10 | 268
404.982 and 416.1482 | 1,687 | 1 | 30 | 844
404.987 & 404.988 and 416.1487 & 416.148 and 405.601 | 12,425 | 1 | 30 | 6,213
405.372(c) | 5,310 | 1 | 10 | 885
405.1(b)(5), 405.372(b) | 833 | 1 | 30 | 417
405.505 | 833 | 1 | 30 | 417
405.1(c)(2) | 5,310 | 1 | 10 | 885
405.20 | 5,310 | 1 | 10 | 885
Totals | 75,850 |  |  | 22,533

Dated: September 7, 2016.
Naomi R. Sipple,
Reports Clearance Officer, Social Security Administration.

[FR Doc. 2016-21834 Filed 9-9-16; 8:45 am]

BILLING CODE 4191-02-P